DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of OMB approval of information collection requirements.

SUMMARY: The Occupational Safety and Health Administration announces that the Office of Management and Budget (OMB) extended its approval for a number of information collection requirements found in sections of 29 CFR parts 1902, 1904, 1905, 1908, 1910, 1915, 1917, 1926, 1952, 1953, 1954, 1955, and 1956. OSHA sought approval of these requirements under the Paperwork Reduction Act of 1995 (PRA-95), and, as required by that Act, is announcing the approval numbers and expiration dates for these requirements.

DATES: This notice is effective October 9, 2012.

FOR FURTHER INFORMATION CONTACT: Todd Owen or Theda Kenney, Directorate of Standards and Guidance, Occupational Safety and Health Administration, U.S. Department of Labor, Room N-3609, 200 Constitution Avenue NW., Washington, DC 20210, telephone: (202) 693-2222.

SUPPLEMENTARY INFORMATION: In a series of Federal Register notices, the Agency announced its requests to OMB to renew its current extensions of approvals for various information collection (paperwork) requirements in its safety and health standards and regulations pertaining to consultation agreements, general industry, shipyard employment, marine terminals, and the construction industry (i.e., 29 CFR parts 1908, 1910, 1915, 1917, and 1926), regulations for State plans (i.e., 29 CFR parts 1902, 1952, 1953, 1954, 1955, and 1956), regulations for variances (part 1905), and regulations for recording and reporting injuries (part 1904). In these Federal Register announcements, the Agency provided 60-day comment periods for the public to respond to OSHA's burden hour and cost estimates.

In accordance with PRA-95 (44 U.S.C. 3501-3520), OMB renewed its approval for these information collection requirements, and assigned OMB control numbers to these requirements. The table below provides the following information for each of these information collection requirements approved by OMB: The title of the Federal Register notice; the Federal Register reference (date, volume, and leading page); OMB's Control Number; and the new expiration date.

Title of the information collection request | Date of Federal Register publication, Federal Register Reference, and OSHA Docket No. | OMB Control No. | Expiration date
Acrylonitrile Standard (29 CFR 1910.1045) | 12/12/2011, 76 FR 77267, Docket No. OSHA-2011-0195 | 1218-0126 | 03/30/2015
Asbestos in Construction Standard (29 CFR 1926.1101) | 01/25/2012, 77 FR 3798, Docket No. OSHA-2012-0002 | 1218-0134 | 06/30/2015
Blasting and the Use of Explosives (29 CFR part 1926, subpart U) | 02/17/2012, 77 FR 9703, Docket No. OSHA-2011-0747 | 1218-0217 | 08/31/2015
Bloodborne Pathogens Standard (29 CFR 1910.1030) | 11/01/2011, 76 FR 67478, Docket No. OSHA-2010-0047 | 1218-0180 | 03/31/2015
Cadmium in Construction Standard (29 CFR 1926.1127) | 03/16/2012, 77 FR 13357, Docket No. OSHA-2012-0004 | 1218-0186 | 08/31/2015
Cadmium in General Industry (29 CFR 1910.1027) | 03/16/2012, 77 FR 13359, Docket No. OSHA-2012-0005 | 1218-0185 | 08/31/2015
Coke Oven Emissions (29 CFR 1910.1029) | 08/22/2011, 76 FR 52350, Docket No. OSHA-2011-0181 | 1218-0128 | 02/20/2015
Commercial Diving Operations Standard (29 CFR part 1910, subpart T) | 02/22/2011, 76 FR 9817, Docket No. OSHA-2011-0008 | 1218-0069 | 06/30/2015
Construction Standards on Posting Emergency Telephone Numbers and Floor Load Limits (29 CFR 1926.50 and 1926.250) | 02/15/2011, 76 FR 8778, Docket No. OSHA-2011-0032 | 1218-0093 | 08/31/2014
Cotton Dust (29 CFR 1910.1043) | 10/05/2011, 76 FR 61752, Docket No. OSHA-2011-0194 | 1218-0061 | 03/31/2015
Electrical Standards for Construction (29 CFR part 1926, subpart K) and for General Industry (29 CFR part 1910, subpart S) | 11/10/2011, 76 FR 70166, Docket No. OSHA-2011-0187 | 1218-0130 | 03/31/2015
Excavations (Design of Cave-in Protection Systems) (29 CFR part 1926, subpart P) | 04/06/2011, 76 FR 19129, Docket No. OSHA-2011-0057 | 1218-0137 | 12/31/2014
Fire Brigades (20 CFR 1910.156) | 01/26/2011, 76 FR 4735, Docket No. OSHA-2011-0009 | 1218-0075 | 03/31/2014
Fire Protection in Shipyard Employment (29 CFR part 1915, subpart P) | 01/19/2011, 76 FR 3178, Docket No. OSHA-2011-0197 | 1218-0248 | 08/31/2014
Forging Machines (29 CFR 1910.218) | 05/24/2011, 76 FR 30200, Docket No. OSHA-2011-0064 | 1218-0228 | 01/31/2015
Grain Handling Facilities, (29 CFR 1910.272) | 02/22/2011, 76 FR 9815, Docket No. OSHA-2011-0028 | 1218-0206 | 08/31/2014
Marine Terminals (29 CFR part 1917) and Longshoring (29 CFR part 1918) | 04/26/2012, 77 FR 24990, Docket No. OSHA-2012-0016 | 1218-0196 | 08/31/2015
Material Hoists, Personnel Hoists, and Elevators (29 CFR 1926.552) | 12/03/2010, 75 FR 75500, Docket No. OSHA-2010-0052 | 1218-0231 | 08/31/2014
Methylene Chloride (29 CFR 1910.1052) | 09/09/2011, 76 FR 55949, Docket No. OSHA-2011-0060 | 1218-0179 | 03/31/2015
Occupational Exposure to Hazardous Chemicals in Laboratories (29 CFR 1910.1450) | 05/04/2011, 76 FR 25376, Docket No. OSHA-2011-0059 | 1218-0131 | 03/31/2015
Occupational Safety and Health Act Variance Regulations (29 CFR 1905.10, 1095.11, and 1905.12) | 02/08/2010, 75 FR 6220, Docket No. OSHA-2009-0024 | 1218-0265 | 03/31/2015
Occupational Safety and Health, Onsite Consultation Agreements (29 CFR part 1908) | 06/22/2011, 76 FR 36579, Docket No. OSHA-2011-0125 | 1218-0110 | 03/31/2015
Occupational Safety and Health, State Plans | 11/28/2011, 76 FR 72980, Docket No. OSHA-2011-0197 | 1218-0247 | 06/30/2015
Permit-Required Confined Spaces (29 CFR 1910.146) | 12/04/2011, 76 FR 77850, Docket No. OSHA-2011-0858 | 1218-0203 | 06/30/2015
Powered Industrial Trucks Standard (29 CFR 1910.178) | 04/20/2011, 76 FR 22154, Docket No. OSHA-2011-0062 | 1218-0242 | 09/30/2014
Powered Platforms for Building Maintenance (29 CFR 1910.66) | 01/07/2011, 76 FR 1192, Docket No. OSHA-2010-0048 | 1218-0121 | 07/31/2014
Recording and Reporting Occupational Injuries and Illnesses (29 CFR part 1904) | 01/13/2011, 76 FR 2418, Docket No. OSHA-2010-0055 | 1218-0176 | 05/31/2014
Respiratory Protection Standard (29 CFR 1910.134) | 03/14/2011, 76 FR 13668, Docket No. OSHA-2011-0027 | 1218-0099 | 01/31/2015
Servicing Multi-Piece and Single Piece Rim Wheels, (29 CFR 1910.177) | 09/08/2011, 76 FR 55708, Docket No. OSHA-2011-0189 | 1218-0219 | 03/31/2015
Shipyard Employment Standards (29 CFR part 1915) | 10/12/2011, 76 FR 63327, Docket No. OSHA-2011-0190 | 1218-0220 | 03/31/2015
Slings (29 CFR 1910.184) | 05/11/2011, 76 FR 27367, Docket No. OSHA-2011-0063 | 1218-0223 | 03/31/2015
Standard on the Control of Hazardous Energy (Lockout/Tagout) (29 CFR 1910.147) | 02/15/2011, 76 FR 8780, Docket No. OSHA-2011-0033 | 1218-0150 | 08/31/2014
Steel Erection (29 CFR part 1926, subpart R) | 03/02/2011, 76 FR 11516, Docket No. OSHA-2011-0055 | 1218-0241 | 08/31/2014
Subpart A (General Provisions) and subpart B (Confined and Enclosed Spaces and Other Dangerous Atmospheres in Shipyard Employment) (29 CFR part 1915) | 03/29/2011, 76 FR 17448, Docket No. OSHA-2011-0034 | 1218-0011 | 01/31/2015
Telecommunication (29 CFR 1910.268) | 10/25/2011, 76 FR 66087, Docket No. OSHA-2010-0057 | 1218-0225 | 03/31/2015
The 13 Carcinogens Standard (29 CFR 1910.1003, 1915.1003, and 1926.1103, et al.) | 12/08/2011, 76 FR 76768, Docket No. OSHA-2011-0860 | 1218-0085 | 06/30/2015
Underground Construction Standard (29 CFR 1926.800) | 02/15/2011, 76 FR 8782, Docket No. OSHA-2011-0029 | 1218-0067 | 07/31/2014
Vehicle-Mounted Elevating and Rotating Work Platforms (Aerial Lifts) (29 CFR 1910.67) | 10/05/2011, 76 FR 61750, Docket No. OSHA-2011-0185 | 1218-0230 | 03/31/2015
Vertical Tandem Lifts in Marine Terminals (29 CFR part 1917) | 07/12/2011, 76 FR 40935, Docket No. OSHA-2011-0066 | 1218-0260 | 02/28/2015
Vinyl Chloride Standard (29 CFR 1910.1017) | 12/08/2011, 76 FR 76766, Docket No. OSHA-2011-0196 | 1218-0010 | 03/31/2015
Voluntary Protection Programs Information | 03/22/2011, 76 FR 16000, Docket No. OSHA-2011-0056 | 1218-0239 | 09/30/2014

In accordance with 5 CFR 1320.5(b), an agency cannot conduct, sponsor, or require a response to a collection of information unless the collection displays a valid OMB control number and the agency informs respondents that they need not respond to the collection of information unless it displays a valid OMB control number.

Authority and Signature

David Michaels, Ph.D., MPH, Assistant Secretary of Labor for Occupational Safety and Health, directed the preparation of this notice. The authority for this notice is 44 U.S.C. 3506 et seq. and Secretary of Labor's Order No. 1-2012 (77 FR 3912).

Signed at Washington, DC, on October 2, 2012.
David Michaels,
Assistant Secretary of Labor for Occupational Safety and Health.

[FR Doc. 2012-24712 Filed 10-5-12; 8:45 am]

BILLING CODE 4510-26-P